ENVIRONMENTAL PROTECTION AGENCY

40 CFR Part 52

[EPA-R04-OAR-2017-0550; FRL-9974-24-Region 4]

Air Plan Approval; KY; Fine Particulate Matter and Ozone NAAQS Revisions

AGENCY: Environmental Protection Agency (EPA).

ACTION: Proposed rule.

SUMMARY: The Environmental Protection Agency (EPA) is proposing to approve portions of State Implementation Plan (SIP) revisions submitted by the Commonwealth of Kentucky, through the Kentucky Division for Air Quality, on December 21, 2016 and August 29, 2017, on behalf of the Louisville Metro Air Pollution Control District (District). EPA is proposing to approve the portions of the submittals that modify the District's Ambient Air Quality Standards regulation, as incorporated into the SIP. The revisions to the SIP that EPA is proposing to approve pertain to changes to the District's air quality standards for fine particulate matter (PM2.5) and ozone to reflect the 2012 PM2.5 and 2015 ozone national ambient air quality standards (NAAQS). EPA is proposing to approve these portions of the SIP revisions because the Commonwealth has demonstrated that they are consistent with the Clean Air Act (CAA or Act). EPA will act on the other portions of the December 21, 2016, and August 29, 2017, submittals in a separate action.

DATES: Written comments must be received on or before March 12, 2018.

ADDRESSES: Submit your comments, identified by Docket ID No. EPA-R04-OAR-2017-0550 at https://www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, the full EPA public comment policy, information about CBI or multimedia submissions, and general guidance on making effective comments, please visit https://www2.epa.gov/dockets/commenting-epa-dockets.

FOR FURTHER INFORMATION CONTACT: Madolyn Sanchez, Air Regulatory Management Section, Air Planning and Implementation Branch, Air, Pesticides and Toxics Management Division, U.S. Environmental Protection Agency, Region 4, 61 Forsyth Street SW, Atlanta, Georgia 30303-8960. Ms. Sanchez can be reached via telephone at (404) 562-9644 or via electronic mail at sanchez.madolyn@epa.gov.

SUPPLEMENTARY INFORMATION:

I. Background

Sections 108 and 109 of the CAA govern the establishment, review, and revision, as appropriate, of the NAAQS to protect public health and welfare. The CAA requires periodic review of the air quality criteria—the science upon which the standards are based—and the standards themselves. EPA's regulatory provisions that govern the NAAQS are found at 40 CFR 50—National Primary and Secondary Ambient Air Quality Standards. In this rule, EPA is proposing to approve the portions of the revisions to the Jefferson County air quality regulations ¹ addressing Regulation 3.01, Ambient Air Quality Standards, in the Kentucky SIP, submitted by the Commonwealth on December 21, 2016, and August 29, 2017. Regulation 3.01 is amended ² by updating air quality standards in Section 7 for PM2.5 and ozone to reflect the most recent NAAQS, removing the numbering of the subsections in Section 7, and making textual modifications to the footnotes. The SIP submittals amending the Jefferson County regulations to incorporate the most recent PM2.5 and ozone NAAQS can be found in the docket for this rulemaking at www.regulations.gov and are summarized below.

¹ In 2003, the City of Louisville and Jefferson County governments merged and the “Jefferson County Air Pollution Control District” was renamed the “Louisville Metro Air Pollution Control District.” However, each of the regulations in the Jefferson County portion of the Kentucky SIP still has the subheading “Air Pollution Control District of Jefferson County.” Thus, to be consistent with the terminology used in the SIP, EPA refers throughout this notice to regulations contained in the Jefferson County portion of the Kentucky SIP as the “Jefferson County” regulations.

² The District refers to the revised version of Regulation 3.01 in its December 21, 2016, submittal as “Version 6” and the revised version of Regulation 3.01 in its August 29, 2017, submittal as “Version 7.” Upon EPA's final approval of changes to Regulation 3.01, the text of the regulation in the SIP will reflect Version 7.

II. EPA's Analysis of Kentucky's Submittal

On December 14, 2012 (78 FR 3086), EPA promulgated a revised primary annual PM2.5 NAAQS, strengthening it from 15.0 micrograms per cubic meter (μg/m³) to 12.0 μg/m³, and retained the existing primary 24-hour PM2.5 standard at 35 μg/m³. Accordingly, in the August 29, 2017, SIP submittal, the District revised Regulation 3.01, Ambient Air Quality Standards, to update the primary air quality standard for PM2.5 to be consistent with the NAAQS that were promulgated by EPA in 2012. EPA has reviewed this change to the Jefferson County regulation for PM2.5 and has made the determination that this change is consistent with federal regulations.

On October 1, 2015 (80 FR 65292), EPA promulgated revised 8-hour primary and secondary ozone NAAQS, strengthening both from 0.075 parts per million (ppm) to 0.070 ppm. Accordingly, in the December 21, 2016, SIP submittal, the District revised Regulation 3.01, Ambient Air Quality Standards, to update the primary and secondary air quality standards for ozone to be consistent with the NAAQS that were promulgated by EPA in 2015. EPA has reviewed this change to the Jefferson County regulation for ozone and has made the determination that this change is consistent with federal regulations.

In addition to the revision of air quality standards in Section 7 of Regulation 3.01, the August 29, 2017, SIP submittal included minor formatting changes to Regulation 3.01: Removal of the numbering of the subsections in Section 7; and textual modifications to the footnotes which abbreviate them but do not change their meaning. EPA has determined that these are administrative changes that are consistent with the requirements of the CAA.

III. Incorporation by Reference

In this rule, EPA is proposing to include in a final EPA rule regulatory text that includes incorporation by reference. In accordance with requirements of 1 CFR 51.5, EPA is proposing to incorporate by reference Jefferson County Regulation 3.01, Ambient Air Quality Standards, effective September 21, 2016, and February 15, 2017, which was revised to be consistent with the current NAAQS. EPA has made, and will continue to make, these materials generally available through www.regulations.gov and/or at the EPA Region 4 Office (please contact the person identified in the FOR FURTHER INFORMATION CONTACT section of this preamble for more information).

IV. Proposed Action

EPA is proposing to approve the Commonwealth of Kentucky December 21, 2016, and August 29, 2017, SIP revisions identified in section II above, because these changes are consistent with the CAA.

V. Statutory and Executive Order Reviews

Under the CAA, the Administrator is required to approve a SIP submission that complies with the provisions of the Act and applicable federal regulations. See 42 U.S.C. 7410(k); 40 CFR 52.02(a). Thus, in reviewing SIP submissions, EPA's role is to approve state choices, provided that they meet the criteria of the CAA. This action merely proposes to approve state law as meeting Federal requirements and does not impose additional requirements beyond those imposed by state law. For that reason, this proposed action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

List of Subjects in 40 CFR Part 52

Environmental protection, Air pollution control, Incorporation by reference, Intergovernmental relations, Nitrogen dioxide, Ozone, Particulate matter, Reporting and recordkeeping requirements, Sulfur oxides, Volatile organic compounds.

Authority: 42 U.S.C. 7401 et seq.

Dated: January 29, 2018.
Onis “Trey” Glenn, III,
Regional Administrator, Region 4.

[FR Doc. 2018-02464 Filed 2-7-18; 8:45 am]

BILLING CODE 6560-50-P